DEPARTMENT OF ENERGY

Federal Energy Regulatory Commission

[Project No. 14867-003]

Scott's Mill Hydro, LLC; Notice of Technical Conference

On Thursday, December 1, 2022, Commission staff will hold a technical conference to provide clarification to Scott's Mill Hydro, LLC regarding deficiencies in the final license application and additional information needs identified by Commission staff for the proposed Scott's Mill Hydroelectric Project No. 14867.¹

¹ Commission staff's letter identifying deficiencies and requesting additional information is available at: https://elibrary.ferc.gov/eLibrary/docinfo?accession_number=20221020-3051.

The technical conference will begin at 9:30 a.m. Eastern Standard Time. The conference will be held at the Federal Energy Regulatory Commission headquarters building located at 888 1st Street NE, Washington, DC, and will include teleconference capabilities. Discussion topics for the technical conference are included in Appendix A.

All local, state, and federal agencies, Indian tribes, and other interested parties are invited to participate. There will be no transcript of the conference, but a summary of the meeting will be prepared for the project record. If you are interested in participating in the meeting you must contact Jody Callihan at (202) 502-8278 or jody.callihan@ferc.gov by November 28, 2022 to receive specific instructions on how to participate.

Dated: November 15, 2022.
Debbie-Anne A. Reese,
Deputy Secretary.

[FR Doc. 2022-25559 Filed 11-22-22; 8:45 am]

BILLING CODE 6717-01-P